NATIONAL LABOR RELATIONS BOARD

29 CFR Part 104

RIN 3142-AA07

Notification of Employee Rights Under the National Labor Relations Act

AGENCY: National Labor Relations Board.

ACTION: Final rule; delay of effective date.

SUMMARY: On August 30, 2011, the National Labor Relations Board (Board) published a final rule requiring employers, including labor organizations in their capacity as employers, subject to the National Labor Relations Act (NLRA) to post notices informing their employees of their rights as employees under the NLRA. The Board hereby amends that rule to change the effective date from November 14, 2011, to January 31, 2012. The purpose of this delay is to allow for enhanced education and outreach to employers.

DATES: The effective date of the final rule published at 76 FR 54006, August 30, 2011, is delayed from November 14, 2011 to January 31, 2012.

FOR FURTHER INFORMATION CONTACT: Lester A. Heltzer, Executive Secretary, National Labor Relations Board, 1099 14th Street, NW., Washington, DC 20570, (202) 273-1067 (this is not a toll-free number), 1-866-315-6572 (TTY/TDD).

SUPPLEMENTARY INFORMATION: On August 30, 2011 (76 FR 54006), the National Labor Relations Board published a final rule requiring employers, including labor organizations in their capacity as employers, subject to the National Labor Relations Act (NLRA) to post notices informing their employees of their rights as employees under the NLRA. The Board has determined that in the interest of ensuring broad voluntary compliance with the rule concerning notification of employee rights under the National Labor Relations Act, further public education and outreach efforts would be helpful. The Board has decided to change the effective date of the rule from November 14, 2011, to January 31, 2012, in order to allow time for such an education and outreach effort. Member Brian E. Hayes dissented from the adoption of the final rule. For this reason, he agrees with any postponement of the effective date of the rule. Member Craig Becker would not change the effective date of the rule, but agrees that if the date is to be changed it should be for purposes of public education and outreach.

Signed in Washington, DC, on October 6, 2011.
Mark Gaston Pearce,
Chairman.

[FR Doc. 2011-26369 Filed 10-11-11; 8:45 am]

BILLING CODE 7545-01-P